FEDERAL COMMUNICATIONS COMMISSION

Notice of Public Information Collection(s) Being Reviewed by the Federal Communications Commission, Comments Requested

December 7, 2010.

SUMMARY: The Federal Communications Commission, as part of its continuing effort to reduce paperwork burden invites the general public and other Federal agencies to take this opportunity to comment on the following information collection(s), as required by the Paperwork Reduction Act (PRA) of 1995, 44 U.S.C. 3501-3520. Comments are requested concerning (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid control number. No person shall be subject to any penalty for failing to comply with a collection of information subject to the Paperwork Reduction Act (PRA) that does not display a valid OMB control number.

DATES: Written Paperwork Reduction Act (PRA) comments should be submitted on or before January 13, 2011. If you anticipate that you will be submitting comments, but find it difficult to do so within the period of time allowed by this notice, you should advise the contact listed below as soon as possible.

ADDRESSES: Direct all PRA comments to Nicholas A. Fraser, Office of Management and Budget via fax at 202-395-5167 or via e-mail to Nicholas_A._Fraser@omb.eop.gov and to PRA@fcc.gov and Cathy.Williams@fcc.gov. Include in the e-mail the OMB control number of the collection. If you are unable to submit your comments by e-mail contact the person listed below to make alternate arrangements.

FOR FURTHER INFORMATION CONTACT: For additional information or copies of the information collection, contact Cathy Williams at (202) 418-2918, or via Internet at Cathy.Williams@fcc.gov, and/or PRA@fcc.gov. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION:

OMB Control Number: 3060-xxxx. Title: Structure and Practices of the Video Relay Service Program, CG Docket No. 10-51.

Form Number: N/A.

Type of Review: New collection.

Respondents: Business or other for-profit entities.

Number of Respondents and Responses: 13 respondents; 169 responses.

Estimated Time per Response: .017 hours (1 minute average per response).

Frequency of Response: Annual and monthly reporting requirements.

Obligation to Respond: Required to obtain or retain benefits. The statutory authority for this information collection is found at sections 1, 4, 225, and 303(r) of the Communications Act of 1934, as amended (Act), 47 U.S.C. 151, 154, 225, and 303(r).

Total Annual Burden: 3 hours.

Total Annual Cost: None.

Nature and Extent of Confidentiality: An assurance of confidentiality is not offered because this information collection does not require the collection of personally identifiable information (PII) from individuals.

Privacy Impact Assessment: No impact(s).

Needs and Uses: In document FCC 10-88, the Commission finds good cause to adopt an interim rule requiring the Chief Executive Officer, Chief Financial Officer, or other senior executive of a Telecommunications Relay Service (TRS) provider submitting minutes to the Interstate TRS Fund (Fund) administrator for compensation on a monthly basis to certify, under penalty of perjury, that the submitted minutes were handled in compliance with section 225 of the Act and the Commission's rules and orders. Also in this document, the Commission requires such an executive to certify, under penalty of perjury, that cost and demand data submitted to the Fund administrator on an annual basis related to the determination of compensation rates or methodologies are true and correct. The explosive growth in the Fund in recent years and evidence of fraud against the Fund, as evidenced by recent indictments and guilty pleas from call center managers and employees admitting to defrauding the Fund of tens of millions of dollars, require the Commission to take immediate steps in preserving the Fund to ensure the continued availability of TRS. By requiring providers to be more accountable for their submissions, the Commission takes necessary, affirmative steps to preserve the TRS Fund.

Marlene H. Dortch,
Secretary, Federal Communications Commission.

[FR Doc. 2010-31357 Filed 12-13-10; 8:45 am]

BILLING CODE 6712-01-P